DEPARTMENT OF COMMERCE

National Institute of Standards and Technology

RIN 0693-ZA95

[Docket No.: 100201057-0059-01]

National Institute of Standards and Technology Construction Grant Program

AGENCY: National Institute of Standards and Technology (NIST), Department of Commerce.

ACTION: Notice of availability of funds.

SUMMARY: The National Institute of Standards and Technology (NIST) announces that it is holding a competition for the NIST Construction Grant Program, and is soliciting proposals for financial assistance for FY 2010. The goals and objectives of the program are to provide competitively awarded grant funds for research science buildings through the construction of new buildings or expansion of existing buildings.

DATES: A Letter of Intent (Form NIST-1102) is required and must be received no later than 3 p.m. Eastern Time, Monday, March 29, 2010. The corresponding full proposal must be received no later than 3 p.m. Eastern Time, Monday, April 26, 2010. Review, selection, and grant award processing is expected to be completed in September 2010.

ADDRESSES: Letters of Intent may only be submitted by paper to: National Institute of Standards and Technology; Construction Grant Program; 100 Bureau Drive, Stop 4701; Gaithersburg, MD 20899-4701; Attn: Anneke Tingle—301-975-5060. The corresponding full proposals may be submitted by paper or electronically. Paper Submissions: National Institute of Standards and Technology; Construction Grant Program; 100 Bureau Drive, Stop 4701; Gaithersburg, MD 20899-4701; Attn: Anneke Tingle—301-975-5060. Electronic submissions: http://www.grants.gov.

FOR FURTHER INFORMATION CONTACT: Barbara Lambis at 301-975-4447 or by e-mail at barbara.lambis@nist.gov.

SUPPLEMENTARY INFORMATION: Additional Information. The full Federal Funding Opportunity (FFO) announcement for this request for proposals contains detailed information and requirements for the program. Applicants are strongly encouraged to read the FFO announcement in developing proposals. The full FFO announcement is available at http://www.grants.gov and on the NIST Web site at http://www.nist.gov/director/ncgp/.

Statutory Authority. The statutory authority for this program is the Omnibus Appropriations Act, 2009 (Pub. L. 111-8) and Consolidated Appropriations Act, 2010 (Pub. L. 111-117).

CFDA. 11.618, NIST Construction Grant Program.

Program Description. The Omnibus Appropriations Act, 2009 (Pub. L. 111-8) appropriated $30 million to NIST “for a competitive construction grant program for research science buildings. Additional information on the program provided in an Explanatory Statement published in the Congressional Record (which serves as the Conference Report) indicates that Congress intended to provide NIST $30,000,000 for competitive construction grants for research science buildings. (See 155 Cong. Rec. H1735 (daily ed. Feb. 23, 2009).) The statement also indicates that “grants shall be awarded to colleges, universities, and non-profit science research organizations on a merit basis. Additionally, the Consolidated Appropriations Act, 2010 (Pub. L. 111-117) appropriated an additional $20 million to NIST for a competitive construction grant program for research science buildings.

Pursuant to the statutory authorities cited above and in consideration of the legislative history, NIST publishes this notice to set forth the program goals and objectives, and to solicit Letters of Intent and full proposals for the NIST Construction Grant Program. The goals and objectives of the program are to provide competitively awarded grant funds for research science buildings through the construction of new buildings or expansion of existing buildings. For purposes of this program, “research science building” means a building or facility whose purpose is for the conduct of scientific research, including laboratories, test facilities, measurement facilities, research computing facilities, and observatories. In addition, “expansion of existing buildings” means that space to conduct scientific research is being expanded from what is currently available for the supported research activities. NIST seeks proposals that successfully address the evaluation criteria below.

Unallowable/Ineligible Projects

The following projects are unallowable/ineligible under this program:

1. Projects to construct or expand a building not intended for performing research or that will predominately be equipped with routine office equipment and/or lecture/class room furnishings.

2. Projects to construct facilities that will primarily benefit undergraduate research training programs, rather than the creation of new graduate level research programs, or expanding existing graduate level research programs.

3. Projects to construct facilities that will primarily benefit the education of the general public rather than support research activities.

4. Projects that include tasks for constructing shell space that will not be completed into research space within the grant will have these tasks removed.

Unallowable/Ineligible Costs

The following items, regardless of whether they are allowable under the Federal cost principles, are unallowable under this program and may not be used as cost sharing:

1. Ancillary Structures, rights-of-way surveys, appraisals, etc.

2. Costs or charges associated with routine maintenance, or operation of the facility.

3. Equipment used for research or otherwise that is not an integral part of the building's structure, e.g., table top equipment, portable air conditioners, etc. Equipment that is an integral part of the building such as fume hoods, HVAC equipment, built-in autoclave, etc., is allowable.

4. Furniture other than fixed laboratory casework.

5. Interior decorating.

6. Landscaping or other improvements exterior to the footprint of the building, unless required for its operation.

7. Purchase of land.

8. Relocation expenses.

9. Safety equipment items, e.g., fire extinguishers, first-aid kits, etc. Built-in safety items, e.g., eye wash stations or chemical showers, however, are fixed items and are allowable.

10. Storage costs.

11. Telephone and/or network equipment, e.g., servers, storage, racks, etc., however, IT and telephone cabling and wiring installed during construction is allowable.

12. Training, unless related to regulatory compliance for construction.

Funding Availability. Up to $50 million is available for new grants for the FY 2010 competition. NIST anticipates funding three to five projects with Federal shares in the $10 million—$15 million range with a project period of performance of up to five (5) years, although there is an expectation that most of the projects will be completed prior to five years. The anticipated start date will be one month after the award is made. The period of performance depends on the construction schedule proposed.

Eligibility Criteria. U.S. institutions of higher education and non-profit organizations are eligible to apply.

Restrictions on Submission of Letters of Intent and Full Proposals and on Proposal Funding

Each applicant organization may submit only two Letters of Intent (form NIST-1102), in response to this solicitation, and two corresponding full proposals. If more than two Letters of Intent are received from the same applicant organization, NIST will acknowledge receipt of each and provide notice that if more than two full proposals are received from the same applicant organization at the time of full proposal submission, all full proposals from that same applicant organization will be rejected and returned without review. A full proposal may not be submitted unless NIST has received the required Letter of Intent by the deadline and the applicant has received an acknowledgement letter from NIST. If a full proposal is submitted to NIST from an applicant who did not submit the required Letter of Intent for their full proposal, the full proposal will be rejected and returned to the applicant without review. Although each applicant organization may submit two full proposals, only one full proposal project from each applicant organization may be funded.

Institutions of Higher Education Status as Single or Multiple Applicants: Large, multi-campus academic systems usually have distinct campuses with their own chancellors, student admissions, and separate research or research training activities. Such a campus, which exists as a separate university, with its own student programs and degrees, qualifies as a separate entity for the purpose of submitting a Letter of Intent and corresponding full proposal.

If a university includes multiple colleges of study, whether located in the institution's main campus or located some miles from the main university campus on a physically distinct campus, they are not considered separate entities. Campuses in a multi-campus situation may submit independent proposals if they are part of a multi-campus system, such as a state university system or state community college system, and have independent administrative structures typical of universities or community colleges. Campuses headed by Department Heads, Deans, Center Directors or other administrators at similar levels are not eligible to submit an independent proposal.

If a university established a Research Foundation specifically to promote, encourage and provide assistance to the research activities of the university, and the Research Foundation is a separate non-profit science research organization, is incorporated under State laws and regulations, and is led by a separate governing board and committees, it still supports the activities of the university and cannot be considered an organization with interests distinct from the university. It has no students or faculty of its own, separate from the university. Accordingly, research proposals submitted by the Research Foundation will count toward the institutional proposal limit.

Use of NIST-1102, Letter of Intent. A “letter of intent” may only be submitted using the mandatory form NIST-1102, Letter of Intent. If a “letter of intent” is submitted in other than the required form NIST-1102, Letter of Intent, the applicant will NOT be eligible to submit a corresponding full proposal. Additionally, failure to provide all required information on the NIST-1102, Letter of Intent, may result in the applicant being ineligible to submit a corresponding full proposal.

Cost Sharing Requirements. This program requires a cost share of at least 20 percent of the yearly total project costs.

Evaluation Criteria. The evaluation criteria that will be used in evaluating proposals are as follows:

1. Scientific and technical merit of the proposed use of the facility and the need for Federal funding (50 percent).

This criterion addresses the intellectual merit and broader impacts of the proposed use of the facility; the strategic research directions planned with the facility and how well the plan is conceived and organized; what the facility will enable in terms of the advancement of knowledge and understanding within a specific field(s) or across different fields; the qualifications of the proposed key researchers (individuals or teams) which will use the facility, as well as the management team that will lead them; the potential for targeted impacts resulting from the use of the facility that are unlikely to be achieved with the current infrastructure, such as what transformative or creative concepts may expand the science and technology knowledge base; the extent to which the facility will enhance collaborations within and outside of the institution; and the need for Federal funding due to a lack of alternative funding sources, specifically what other sources were pursued.

2. The quality of the design of the research science building (25 percent).

This criterion addresses the quality of the design information provided for the building/facility to establish that the design has the ability to meet the safety, physical, environmental, experimental/research (e.g. unique environmental controls—vibration, humidity temperature etc.), and operational (e.g. utilities and circulation of people) requirements of the science and technology activities the building/facility is expected to support. It also addresses whether or not preliminary drawings and plans, together with appropriate estimates, of in-house or vendor costs, are complete, in progress, or planned. Furthermore, it addresses the rationale for and summary specifications of the building/facility, including location, size, configuration, environmental controls for research space, utility needs, gross and/or assignable square footage, assignments of square footage to research and non-research related activities (e.g., routine administrative office space, conference rooms, classrooms, etc.), and the assigned purpose by areas. Finally, this criterion addresses the incorporation of green/sustainable design features in the project.

3. Adequacy of the detailed Project Management Plan (PMP) for construction of the research science building/facility (25 percent). The program will evaluate the following four aspects of the PMP, which do not vary in importance:

a. Project Scope and Requirements

This aspect of the PMP addresses the description and organization of project work packages (project tasks/elements) in a clear and complete Work/task Breakdown Structure (WBS) approach that comprises the total scope of the building/facility project from inception through commissioning of the facility, including descriptions of each work package and its associated subtasks, the relationship between the work packages and their associated subtasks, consolidated into a unified project scope description that will be used by project management key personnel throughout the project management life-cycle to identify and monitor project progress, as well as link and track work packages and subtasks to the budget and schedule plans addressed in c.(2) below. In addition, this criterion addresses which work packages are proposed to be within, before, or after the project period. The project period covers only the Federal and the allowable auditable cost sharing portion of the project.

b. Adequacy of the Proposed Project Time Schedule and Linkage to the Budget, Including the Clarity of the Budget and the Budget Narrative

This aspect of the PMP addresses the time schedule for implementing the work packages and associated subtasks described within the WBS addressed in c.(1) above, and how the budget costs associated with the work packages correctly sum up to each of the cost categories of the SF-424C by project year.

c. Capability To Manage the Project

This aspect of the PMP addresses the approach planned for project management monitoring and risk control during the life of the award, from kick-off through close-out, which may include tools, techniques and processes (manual and automated systems). It also addresses an analysis of potential project risks (e.g. timing, cost and/or scope changes), where in the schedule risk(s) may be expected, and how the risk(s) may be mitigated through specific control mechanisms, and the planning/control decision making process to implement the control mechanisms. Finally, it addresses the management plan for direction and implementation of the project, including capability descriptions of the performing organizations and experience summaries for the manager with fiduciary project responsibility, the project manager, and other key project personnel as appropriate.

d. Soundness of the Financial Commitments To Implement the PMP

This aspect of the PMP addresses the current and any pending commitments required for the building/facility to be constructed, commissioned and become fully operational, including any risk(s) associated with finalizing funding commitments and the organizational name/contact that has the fiduciary authority over the funding commitments.

Selection Process

1. Letter of Intent—Form NIST-1102. An initial administrative review of timely received letters of intent will be conducted to determine compliance with requirements and completeness. NIST will send an acknowledgement letter to all applicants who timely submit a Letter of Intent with results of the review. It is expected that the Letter of Intent will be reviewed for eligibility of the proposed applicant and proposed project, and whether or not the scientific research to be performed in the building/facility will complement one or more programs of DoC's three science organizations' Program Priorities. (See section V.3. Program Priorities of the FFO announcement.)

2. Full Proposal. An initial administrative review of timely received full proposals will be conducted to determine compliance with requirements and completeness. Proposals that are nonresponsive and/or incomplete will be eliminated. Each of the responsive and complete proposals will receive a minimum of three independent reviews, which will include written evaluations and scores, based on the evaluation criteria. Reviews addressing evaluation criteria 2 and 3 above may be performed by non-Federal Engineers or Architects. No consensus advice will be given by the reviewers. Failure of an applicant to cooperate with NIST in identifying feasible measures to reduce or avoid identified adverse environmental impacts of its proposed project may result in the applicant not receiving an award. (See National Environmental Policy Act section below for more information.)

The individual proposal evaluations and scores will be considered by an Evaluation Board(s), a committee comprised of Federal employees. This Board(s) will present proposals in numerical rank order and provide funding recommendations, based on the evaluation criteria, to a Selecting Official for further consideration. In making final selections, the Selecting Official, who is the Chief Facilities Management Officer at NIST, will select funding recipients based upon the Evaluation Board's rank order of the proposals and the selection factors. The selection of proposals by the Selecting Official is final and cannot be appealed.

NIST reserves the right to negotiate the cost and scope of the proposed work with the applicants that have been selected to receive awards. This may include requesting that the applicant delete from the scope of work a particular task that is deemed by NIST to be inappropriate for support (or of a lower priority compared with competing uses of funds) against the evaluation criteria or selection factors. NIST also reserves the right to reject a proposal where information is uncovered that raises a reasonable doubt as to the responsibility of the applicant. The final approval of selected proposals and award of grants will be made by the NIST Grants Officer. The award decision of the NIST Grants Officer is final and cannot be appealed.

Applicants may not submit replacement and/or revised pages and/or documents for any portion of a proposal once that portion has been submitted unless specifically requested by NIST.

One copy of each incomplete, nonresponsive, or non-selected proposal will be retained for three (3) years for record keeping purposes and the other two (2) copies will be destroyed. After three (3) years the remaining copy will be destroyed.

Selection Factors

The Selecting Official shall recommend proposals for award based upon the Evaluation Board's rank order of the proposals, and may select a proposal out of rank based on one or more of the following selecting factors:

1. Assuring a balance/distribution of projects across the program priorities (see FFO section V.3. Program Priorities).

2. Availability of Federal funds.

3. Whether this project duplicates other projects funded by DoC or other Federal agencies.

4. Applicant's prior Federal award performance.

5. Assuring a balance/distribution of funds across regional/geographic areas.

6. Whether the applicant has received previous funding under the NIST Construction Grant Program.

As noted above, no more than one full proposal per applicant organization will be funded.

Program Priorities

All applicable fields of science that complement one or more programs of DoC's three science organizations: NIST, the National Oceanic and Atmospheric Administration (NOAA), and the National Telecommunication and Information Administration (NTIA). Specifically, these include science related to measurements, oceans and atmosphere, and telecommunications. More information about those programs can be found on the agencies' Web sites (http://www.nist.gov, http://www.noaa.gov, and http://www.ntia.doc.gov).

Proposals are only required to link to the program priorities of one of the three DoC science organizations. Proposals that address program priorities of more than one organization are not considered to be more competitive based on that fact alone.

Executive Order 12372 (Intergovernmental Review of Federal Programs). Proposals under this program are not subject to Executive Order 12372.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

E.O. 13132 (Federalism). This notice does not contain policies with Federalism implications as defined in Executive Order 13132.

E.O. 12866 (Regulatory Planning and Review). This notice is determined to be not significant under Executive Order 12866.

Paperwork Reduction Act. Notwithstanding any other provision of the law, no person is required to, nor shall any person be subject to a penalty for failure to, comply with a collection of information subject to the requirements of the Paperwork Reduction Act (PRA), unless that collection of information displays a currently valid Office of Management and Budget (OMB) Control Number. This notice contains collection-of-information requirements subject to the PRA. The use of Form NIST-1101, NIST Construction Grant Program Budget Narrative, NIST-1101A, NIST Construction Grant Program Budget Narrative, and NIST-1102, Letter of Intent Construction Grant Program, have been approved under OMB Control No. 0693-0055; CD-593, U.S. Department of Commerce National Environmental Policy Act (NEPA) Environmental Questionnaire & Checklist has been approved under OMB Control No. 0690-0028; and SF-424, Application for Federal Assistance, SF-424C, Budget Information—Construction Programs, SF-424D, Assurances—Construction Programs, and SF-LLL, Disclosure of Lobbying Activities, have been approved by OMB under the respective control numbers 4040-0004, 4040-0008, 4040-0009, and 0348-0046.

Title, Encumbrances, and Security Interest. Prior to disbursement of any funds under the award, the recipient will be required to furnish evidence, satisfactory in form and substance to NIST that title to real property is vested in the Recipient, and that it has obtained any rights-of-way, easements, State and local government permits, long-term leases, or other property interests. The Recipient will also be required to disclose all encumbrances to NIST, which shall not interfere with the construction, intended use, operation, or maintenance of the project during its estimated useful life.

In addition, grant recipients will be required to execute a security interest or other statement of NIST's interest in the property (building), acceptable to NIST, which must be perfected and placed on record in accordance with local law. This security interest will provide that, for the estimated useful life of the building (20 years), the recipient will not sell, transfer, convey, or mortgage any interest in the real property improved in whole or in part with Federal funds made available under the award, nor shall the recipient use the property for purposes other than the purposes for which the award was made, without the prior written approval of the Grants Officer. Such approval may be withheld until such time as the recipient first pays to NIST the Federal share of the property as provided in 15 CFR Part 14. No funds under the award shall be released until the recipient has complied with this provision, unless other arrangements satisfactory to NIST are made.

DoC Pre-Award Notification Requirements. The Department of Commerce Pre-Award Notification Requirements for Grants and Cooperative Agreements, which are contained in the Federal Register Notice of February 11, 2008 (73 FR 7696-01), are applicable to this solicitation.

Employer/Taxpayer Identification Number and Dun and Bradstreet Data Universal Numbering System

On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

National Environmental Policy Act. The Department must analyze the potential environmental impacts, as required by the National Environmental Policy Act (NEPA). General information on compliance with NEPA can be found at the following Web sites: http://www.nepa.noaa.gov, and the Council on Environmental Quality's (CEQ) NEPAnet, http://ceq.hss.doe.gov/nepa/nepanet.htm.

Consequently, as part of an applicant's proposal, and under their description of their program activities, applicants are required to provide detailed information on the activities to be conducted, safety concerns, locations, site characteristics, surrounding environment, species and habitat that might be affected, construction activities, and any environmental concerns that may exist (e.g., the use and disposal of hazardous or toxic chemicals, impacts to endangered and threatened species, or any social, economic or cultural impacts to the surrounding environment) and in accordance with the required CD-593, U.S. Department of Commerce National Environmental Policy Act (NEPA) Environmental Questionnaire & Checklist.

It is the applicant's responsibility to obtain all necessary Federal, state, and local government permits and approvals where necessary for the proposed work to be conducted. Applicants are expected to design their projects so that they minimize the potential for adverse impacts to the environment. Applicants will also be required to cooperate with the Department in identifying feasible measures to reduce or avoid any identified adverse environmental impacts of their proposed project. The failure to do so may be grounds for not making an award to the applicant or enforcement action if an award is eventually made.

Documentation of requests/completion of required environmental authorizations and permits, including the Endangered Species Act, if applicable, should be included in the proposal. Applications will be reviewed to ensure that they contain sufficient information to allow Department staff to conduct a NEPA analysis so that appropriate NEPA documentation, required as part of the proposal, can be submitted to the NIST Grants and Agreements Management Division along with the recommendation for funding for selected applications.

Applicants proposing activities that cannot be covered by a Program Environmental Assessment (PEA) and Finding of No Significant Impact (FONSI) or whose activities are not covered under another agency's NEPA compliance procedures that can be analyzed and adopted for use by the Department, will be informed after the technical review stage to determine if NEPA compliance and other requirements can otherwise be expeditiously met so that a project can proceed in a timely manner. If an award is made, no funds shall be expended for construction activities under the award until NIST determines compliance with NEPA.

If additional information is required during the period of the award, funds can be withheld by the Grants Officer under a special award condition requiring the recipient to submit additional environmental law compliance information sufficient to enable the Department to assess any impacts that a project may have on the environment.

Reporting. Award Recipients shall provide access to information that is required to assess the project's progress throughout the project life cycle. The following reports are required:

1. Technical Performance Reports. Award Recipients shall submit a technical performance report in triplicate (an original and two copies) on a calendar quarter basis for the periods ending March 31, June 30, September 30, and December 31, or any portion thereof. Reports are due no later than 30 days following the end of each reporting period. A final technical performance report shall be submitted within 90 days after the expiration date of the award. Two copies of the technical performance reports shall be submitted to the Project Manager and the original report to the NIST Grants Officer. Technical performance reports shall contain information as prescribed in 15 CFR 14.51.

2. Financial Reports. For recipients under this program, Article A.01 of the DoC Financial Assistance Standard Terms and Conditions dated March 2008 is revised as follows:

Award Recipients shall submit a Federal Financial Report (SF-425) in triplicate (an original and two copies) on a calendar quarter basis for the periods ending March 31, June 30, September 30, and December 31, or any portion thereof. Reports are due no later than 30 days following the end of each reporting period. A final SF-425 shall be submitted within 90 days after the expiration date of the award. All SF-425s shall be submitted to the NIST Grants Officer.

Reporting requirements are described in the Department of Commerce Financial Assistance Standard Terms and Conditions dated March, 2008, found on the Internet at: http://oamweb.osec.doc.gov/docs/GRANTS/DOC%20STCsMAR08Rev.pdf.

The references to Financial Reporting Form SF-269 in the DoC Standard Terms & Conditions, A.01 and B.01, are hereby replaced with the SF-425, “Federal Financial Report,” as required by the Office of Management and Budget (OMB) (73 FR 61175, October 15, 2008). As authorized under 15 CFR 14.52 and 24.41, the OMB approved SF-425 shall be used in the place of the SF-269 and SF-272 under the uniform administrative requirements and elsewhere under awards in this program where such forms are referenced.

Dated: February 24, 2010.
Marc G. Stanley,
Acting Deputy Director.

[FR Doc. 2010-4286 Filed 3-1-10; 8:45 am]

BILLING CODE 3510-13-P